DEPARTMENT OF HEALTH AND HUMAN SERVICES

Centers for Disease Control and Prevention

[60Day-01-64]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Cycle 6 of the National Survey of Family Growth (NSFG-6) (OMB No. 0920-0314)—Revision—National Center for Health Statistics (NCHS), Centers for Disease Control and Prevention (CDC). The National Survey of Family Growth has been conducted periodically since 1973 by the National Center for Health Statistics, CDC. The first five cycles of the NSFG were based on interviews with women 15-44 years of age, to measure factors related to birth and pregnancy rates and maternal and infant health. In Cycle 6, both women and men will be interviewed. The interviews with males 15-44 will address (1) factors that affect entry into marriage, cohabitation, and fatherhood; (2) factors that affect the spread of Sexually Transmitted Diseases (STDs) and HIV (Human Immunodeficiency Virus, the virus that causes AIDS); and (3) factors that affect men's ability and willingness to carry out their fatherhood roles, including child support.

In 2002, the NSFG will interview a nationally representative sample of 11,500 women and 7,500 men 15-44 years of age. Black, Hispanic, and 15-24 year old men and women will be sampled at a higher rate than others. A pretest has been conducted. All participation is completely voluntary and confidential.

NSFG data help measure the demographics, health status, and behavior of the population of reproductive age (as well as those responsible for most STDs). The NSFG data from the 1995 survey have already been published in more than 60 published NCHS reports and articles in scientific journals. Besides NCHS, users of NSFG data include the Department of Health and Human Services (HHS) Office of Population Affairs, the National Institute for Child Health and Human Development, the CDC HIV/AIDS Prevention program, the CDC's Division of Reproductive Health, the Office of the Assistant Secretary for Planning and Evaluation (OASPE), and the Children's Bureau. Other users include Congress (for Section 905 of the Personal Responsibility and Work Opportunity Reconciliation Act of 1996, among others); the Healthy People 2000 and 2010 initiatives; private researchers in demography, public health, maternal and child health, and state governments. There is no cost to respondents.

Respondents | Number of respondents | Number of responses/respondent | Avg. burden/response (in hrs.) | Total burden (in hrs.)
Survey: screener | 55000 | 1 | 5/60 | 4,583
Survey: males | 7500 | 1 | 1 | 7,500
Survey: females | 11500 | 1 | 80/60 | 15,333
Verification | 5500 | 1 | 5/60 | 458
Total |  |  |  | 27,874

Dated: September 27, 2001.
Nancy E. Cheal,
Acting Associate Director for Policy, Planning and Evaluation, Centers for Disease Control and Prevention.

[FR Doc. 01-24876 Filed 10-3-01; 8:45 am]

BILLING CODE 4163-18-P